DEPARTMENT OF TRANSPORTATION

Federal Aviation Administration

14 CFR Part 39

[Docket No. 95-SW-30-AD, Amendment 39-13704, AD 95-26-05 R1]

RIN 2120-AA64

Airworthiness Directives; Robinson Helicopter Company Model R44 Helicopters

AGENCY: Federal Aviation Administration, DOT.

ACTION: Final rule; rescission.

SUMMARY: This amendment rescinds an existing Airworthiness Directive (AD) for Robinson Helicopter Company (Robinson) Model R44 helicopters, which currently requires revisions to the R44 Rotorcraft Flight Manual (RFM). The RFM revisions limit operations in high winds and turbulence. The RFM revisions also provide information about main rotor stall and mast bumping with recommendations for avoiding these situations and additional emergency procedures for use in certain conditions. This amendment is prompted by the FAA's determination that the limitations and the procedures required by that AD are no longer necessary to correct an unsafe condition. The actions specified by this AD rescind all the requirements of AD 95-26-05, Amendment 39-9463, Docket 95-SW-30-AD.

DATES: Effective July 6, 2004.

FOR FURTHER INFORMATION CONTACT: Gordon Acker, FAA, Los Angeles Aircraft Certification Office, Flight Test Branch, 3960 Paramount Blvd., Lakewood, California 90712-4137, telephone (562) 627-5374, fax (562) 627-5210.

SUPPLEMENTARY INFORMATION: A proposal to amend 14 CFR part 39 by rescinding AD 95-26-05, Amendment 39-9463, Docket 95-SW-30-AD (60 FR 66488, December 22, 1995), for the Robinson Model R44 helicopters was published in the Federal Register on March 26, 2004 (69 FR 15743). That action proposed to rescind the limitations and procedures required by AD 95-26-05.

Interested persons have been afforded an opportunity to participate in the making of this amendment. No comments were received on the proposal or the FAA's determination of the cost to the public. The FAA has determined that air safety and the public interest require the adoption of the rule as proposed.

The FAA estimates that 515 helicopters of U.S. registry are affected by AD 95-26-05, and the required actions take about ½ work hour per helicopter to do at an average labor rate of $65 per work hour. Based on these figures, the total cost impact of the AD on U.S. operators is estimated to be $16,738. However, adopting this rescission eliminates those costs.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and is contained in the Rules Docket. A copy may be obtained from the Rules Docket at the FAA, Office of the Regional Counsel, Southwest Region, 2601 Meacham Blvd., Room 663, Fort Worth, Texas.

List of Subjects in 14 CFR Part 39

Air transportation, Aircraft, Aviation safety, Safety

Adoption of the Amendment

Accordingly, pursuant to the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. Section 39.13 is amended by removing Amendment 39-9463 (60 FR 66488, December 22, 1995).

95-26-05 R1 Robinson Helicopter Company: Amendment 39-13704, Docket No. 95-SW-30-AD. Rescinds AD 95-26-05, Amendment 39-9463.

Applicability: Model R44 helicopters, certificated in any category.

This rescission is effective July 6, 2004.

Issued in Fort Worth, Texas, on June 24, 2004.
Kim Smith,
Acting Manager, Rotorcraft Directorate, Aircraft Certification Service.

[FR Doc. 04-15129 Filed 7-2-04; 8:45 am]

BILLING CODE 4910-13-P